DEPARTMENT OF THE TREASURY

Submission for OMB Review; Comment Request

January 25, 2006.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before March 2, 2006 to be assured of consideration.

Internal Revenue Service (IRS)

OMB Number: 1545-1191.

Type of Review: Extension.

Title: INTL-868-89 (Final) Information with Respect to Certain Foreign Owned Corporations.

Description: The regulations require record maintenance, annual information filing, and the authorization of the U.S. corporation to act as an agent for IRS summons purposes. These requirements allow IRS International examiners to better audit the returns of U.S. corporations engaged in cross border transactions with a related party.

Respondents: Business or other for-profit and Individuals or households.

Estimated Total Burden Hours: 630,000 hours.

OMB Number: 1545-1041.

Type of Review: Extension.

Title: PS-102-86 (Final) Cooperative Housing Corporations.

Description: This regulation provides an elective alternative to the proportionate share rule for allocating interest and taxes to the tenant stockholders of cooperative housing corporations.

Respondents: Business or other for-profit and Individuals or households.

Estimated Total Burden Hours: 625 hours.

OMB Number: 1545-1356.

Type of Review: Extension.

Title: REG-248770-96 (Final) Miscellaneous Sections affected by the Taxpayer Bill of Rights 2 and the Personal Responsibility and Work Opportunity Reconciliation Act of 1996.

Description: The regulations provide guidance with respect to the recovery of administrative costs incurred in connection with an administrative proceeding before the Internal Revenue Service. Procedures that must be followed to recover such costs are set forth.

Respondents: Business or other for-profit, Individuals or households, Not-for-profit institutions, Farms, Federal Government.

Estimated Total Burden Hours: 86 hours.

OMB Number: 1545-1681.

Type of Review: Extension.

Title: Qualifications & Availability Form.

Form: IRS form A.

Description: Form A is used by external applicants applying for clerical and technical positions with the Internal Revenue Service. Applicants will complete information relating to their address, job preference, veteran's preference and a series of occupational questions, knowledge and skills along with background information.

Respondents: Individuals or households.

Estimated Total Burden Hours: 45,000 hours.

OMB Number: 1545-1948.

Type of Review: Extension.

Title: One-Time Dividends Received Deduction for Certain Cash Dividends from Controlled Foreign Corporation.

Form: IRS form 8895.

Description: Form 8895 is used by a U.S. corporation to elect the 85% dividends received deduction provided under section 965 and to compute the DRD.

Respondents: Business or other for-profit.

Estimated Total Burden Hours: 50,020 hours.

Clearance Officer: Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Michael A. Robinson,
Treasury PRA Clearance Officer.

[FR Doc. E6-1190 Filed 1-30-06; 8:45 am]

BILLING CODE 4830-01-P